DEPARTMENT OF LABOR

Employment and Training Administration

Federal Committee on Registered Apprenticeship

AGENCY: Employment and Training Administration, Labor Services.

ACTION: Renewal of the Federal Committee on Registered Apprenticeship (FCRA) Charter.

SUMMARY: Pursuant to section 10 of the Federal Advisory Committee Act (Pub. L. 92-463; 5 U.S.C. App. 1), notice is hereby given of the charter renewal of the Federal Committee on Registered Apprenticeship (FCRA)>

Background

The Charter for the Federal Committee on Registered Apprenticeship (FCRA) expires on February 12, 2001, and is required to be renewed every two years from the date of the Secretary's signature. The current charter was signed by the Secretary of Labor February 12, 1999.

The charter has been revised to reflect the following changes; (1) The number of members has increased from 21 to 24. Each sector now has eight representatives—eight employer members; eight labor members; and eight public members.

In accordance with the requirements of the Federal Advisory Committee Act, the charter will be revised prior to the scheduled expiration date of February 12, 2001.

FOR FURTHER INFORMATION CONTACT: Mr. Anthony Swoope, Administrator, Office of Apprenticeship Training, Employer and Labor Services, Employment and Training Administration, U.S. Department of Labor, Room S-1310, 200 Constitution Avenue, NW, Washington, D.C. 20210. Telephone: (202) 693-2796, (this is not a toll-free number).

Signed at Washington, DC, this 4th day of January 2001.
Raymond L. Bramucci,
Assistant Secretary of Employment and Training.

[FR Doc. 01-3068 Filed 2-5-01; 8:45 am]

BILLING CODE 4510-30-M